DEPARTMENT OF DEFENSE

Department of the Navy

Notice of Availability of Government-Owned Invention; Available for Licensing

AGENCY: Department of the Navy, DoD.

ACTION: Notice.

SUMMARY: The invention listed below is assigned to the United States Government as represented by the Secretary of the Navy and is available for licensing by the Department of the Navy.

U.S. Patent number 6,615,919 entitled “Well Pipe Extraction Apparatus.”

ADDRESSES: Requests for copies of the patent application cited should be directed to Kurt Buehler, NFESC, Code 423, 1100 23rd Ave, Port Hueneme, CA 93043-4370, and must include the U.S. Patent number.

FOR FURTHER INFORMATION CONTACT: Kurt Buehler, Office of Research and Technology Applications, NFESC, Code 423, 1100 23rd Ave, Port Hueneme, CA 93043-4370, telephone (805) 982-4897.

(Authority: 35 U.S.C. 207, 37 CFR part 404.)

Dated: March 17, 2004.
S.K. Melancon,
Paralegal Specialist, Office of the Judge Advocate General, Alternate Federal Register Liaison Officer.

[FR Doc. 04-7004 Filed 3-29-04; 8:45 am]

BILLING CODE 3810-FF-P